RAILROAD RETIREMENT BOARD

Agency Forms Submitted for OMB Review, Request for Comments

Summary: In accordance with the Paperwork Reduction Act of 1995 (44 U.S.C. chapter 35), the Railroad Retirement Board (RRB) is forwarding an Information Collection Request (ICR) to the Office of Information and Regulatory Affairs (OIRA), Office of Management and Budget (OMB) to request an extension without change of a currently approved collection of information: 3220-0176, Representative Payee Parental Custody Report. Out ICR describes the information we seek to collect from the public. Review and approval by OIRA ensures that we impose appropriate paperwork burdens.

The RRB invites comments on the proposed collection of information to determine (1) the ractical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if the RRB and OIRA receive them within 30 days of publication date.

Under Section 12(a) of the Railroad Retirement Act (RRA), the RRB is authorized to select, make payments to, and to conduct transactions with, a beneficiary's relative or some other person willing to act on behalf of the beneficiary as a representative payee. The RRB is responsible for determining if direct payment to the beneficiary or payment to a representative payee would best serve the beneficiary's interest. Inherent in the RRB's authorization to select a representative payee is the responsibility to monitor the payee to assure that the beneficiary's interests are protected. The RRB utilizes Form G-99D, Parental Custody Report, to obtain information needed to verify that a parent-for-child representative payee still has custody of the child. One response is required from each respondent. The RRB proposes no changes to Form G-99D.

Previous Requests for Comments: The RRB has already published the initial 60-day notice (75 FR 79056 on December 17, 2010) required by 44 U.S.C. 3506(c)(2). That request elicited no comments.

Information Collection Request (ICR)

Title: Representative Payee Parental Custody Monitoring.

OMB Control Number: 3220-0176.

Form(s) submitted: G-99D.

Type of request: Extension without change of a currently approved collection.

Affected public: Individuals or households.

Abstract: Under Section 12(a) of the Railroad Retirement Act, the RRB is authorized to select, make payments to, and conduct transactions with an annuitant's relative or some other person willing to act on behalf of the annuitant as a representative payee. The collection obtains information needed to verify the parent-for-child payee still retains custody of the child.

Changes proposed: The RRB proposes no changes to Form G-99D.

The Burden Estimate for the ICR Is as Follows

Estimated Completion Time for Form(s): Completion time for Form G-99D is estimated at 5 minutes.

Estimated annual number of respondents: 1,030.

Total annual responses: 1,030.

Total annual reporting hours: 86.

Additional Information or Comments: Copies of the forms and supporting documents can be obtained from Charles Mierzwa, the RRB Clearance Officer, at (312) 751-3363 or Charles.Mierzwa@RRB.GOV.

Comments regarding the information collection should be addressed to Patricia Henaghan, Railroad Retirement Board, 844 North Rush Street, Chicago, Illinois 60611-2092 or Patricia.Henaghan@RRB.GOV and to the OMB Desk Officer for the RRB, Fax: 202-395-6974, E-mail address: OIRA_Submission@omb.eop.gov.

Charles Mierzwa,
Clearance Officer.

[FR Doc. 2011-9157 Filed 4-14-11; 8:45 am]

BILLING CODE 7905-01-P